DEPARTMENT OF INTERIOR

Bureau of Land Management

[NM-952-06-1420-BJ]

Notice of Filing of Plats of Survey; New Mexico

AGENCY: Bureau of Land Management, Interior.

ACTION: Notice.

SUMMARY: The plats of survey described below are scheduled to be officially filed in the New Mexico State Office, Bureau of Land Management, Santa Fe, New Mexico, (30) thirty calendar days from the date of this publication.

SUPPLEMENTARY INFORMATION:

New Mexico Principal Meridian, New Mexico

The plat representing the dependent resurvey and survey and subdivision of sections in Township 16 North, Range 4 East, accepted October 27, 2005, for Group 1044 New Mexico.

The plat, in two sheets, representing the dependent resurvey and subdivision of sections for Township 8 North, Range 15 West, accepted September 26, 2005, for Group 1034 New Mexico.

The plat representing the dependent resurvey and survey for Township 2 North, Range 5 West accepted September 6, 2005, for Group 1005 New Mexico.

The plat representing the dependent resurvey and subdivision of sections for Township 2 North, Range 7 West, accepted August 25, 2005, for Group 1005 New Mexico.

The plat representing the dependent resurvey and subdivision of sections for Township 23 North, Range 19 West, accepted September 19, 2005, for Group 1025 New Mexico.

The plat representing the dependent resurvey and subdivision of sections for Township 18 North, Range 19 West, accepted September 19, 2005, for Group 1024 New Mexico.

The plat, in two sheets, representing the dependent resurvey and survey for Township 12 North, Range 12 West, accepted September 30, 2005, for Group 1012 New Mexico.

The plat of the Santa Fe Grant, New Mexico Principal Meridian, in three sheets, representing a dependent resurvey and survey, accepted November 29, 2005, for Group 1045 New Mexico.

Indian Meridian, Oklahoma

The plat representing the dependent resurvey and survey for Township 25 North, Range 9 East, accepted September 6, 2005, for Group 128 Oklahoma.

The plat representing the dependent resurvey and survey for Township 21 North, Range 21 East, accepted September 6, 2005, for Group 113 Oklahoma.

The plat representing the dependent resurvey and survey for Township 18 North, Range 22 East, accepted September 14, 2005, for Group 112 Oklahoma.

The plat representing the dependent resurvey and survey for Township 1 North, Range 6 West, accepted September 19, 2005, for Group 104 Oklahoma.

The plat representing the dependent resurvey and survey for Township 17 North, Range 23 East, accepted September 30, 2005, for Group 105 Oklahoma.

The plat representing the dependent resurvey and survey for Township 5 North, Range 5 West, accepted September 30, 2005, for Group 121 Oklahoma.

The plat representing the dependent resurvey and survey for Township 5 North, Range 6 West, accepted September 29, 2005, for Group 120 Oklahoma.

The plat, in six sheets, representing the dependent resurvey and survey for Township 6 South, Range 6 East, accepted September 30, 2005, for Group 100 Oklahoma.

The plat representing the dependent resurvey of The Modoc Reservation for Township 28 North, Range 25 East, and Township 27 North, Range 25 East, Indian Meridian, Oklahoma, and Township 25 North, Range 34 West, Fifth Principal Meridian, Missouri, accepted November 16, 2005, for Group 101 Oklahoma.

Sixth Principle Meridian, Kansas

The plat, in two sheets, representing the dependent resurvey and survey for Township 8 South, Range 15 East, accepted October 27, 2005, for Group 26 Kansas.

The plat, in two sheets, representing the dependent resurvey and survey for Township 4 South, Range 16 East, accepted November 16, 2005, for Group 27 Kansas.

If a protest against a survey, as shown on any of the above plats is received prior to the date of official filing, the filing will be stayed pending consideration of the protest. A plat will not be officially filed until the day after all protest have been dismissed.

A person or party who wishes to protest against any of these surveys must file a written protest with the New Mexico State Director, Bureau of Land Management, stating that they wish to protest.

A statement of reasons for a protest may be filed with the notice of protest to the State Director, or the statement of reasons must be filed with the State Director within thirty days after the protest is filed.

FOR FURTHER CONTACT INFORMATION: These plats will be available for inspection in the New Mexico State Office, Bureau of Land Management, P.O. Box 27115, Santa Fe, New Mexico, 87502-0115. Copies may be obtained from this office upon payment of $1.10 per sheet.

Dated: January 13, 2006.
Allen Bollschweiler,
Acting Chief Cadastral Surveyor for New Mexico.

[FR Doc. 06-520 Filed 1-25-06; 8:45 am]

BILLING CODE 4310-FB-M